ELECTION ASSISTANCE COMMISSION

Sunshine Act Meetings

AGENCY: Election Assistance Commission.

ACTION: Sunshine Act notice; Notice of Public Meeting Agenda.

SUMMARY: Public Meeting: U.S. Election Assistance Commission.

DATES: Wednesday, February 18, 2026, 1:30 p.m.-3:30 p.m. ET.

ADDRESSES: The meeting will be held in person at the Election Assistance Commission hearing room at 633 3rd St. NW, Washington, DC 20001. The meeting is open to the public and will be livestreamed on the U.S. Election Assistance Commission YouTube Channel: https://www.youtube.com/@u.s.electionassistancecomm2110. Public comments on the meeting must be in writing and submitted not later than 24 hours prior to the meeting start time. Written public comments on the meeting can be submitted electronically via https://www.regulations.gov (docket ID: EAC-2026-0034). Written public comments on the meeting can also be sent to the U.S. Election Assistance Commission, 633 3rd Street NW, Suite 200, Washington, DC 20001. Email submissions of public comments on the meeting will not be accepted.

FOR FURTHER INFORMATION CONTACT: Kristen Muthig, Telephone: (202) 897-9285, Email: kmuthig@eac.gov.

SUPPLEMENTARY INFORMATION:

Purpose: In accordance with the Government in the Sunshine Act (Sunshine Act), Public Law 94-409, as amended (5 U.S.C. 552b), the U.S. Election Assistance Commission (EAC) will conduct an open meeting on Election Audit Standards.

Agenda: During the meeting, the EAC's Commissioners will lead discussions with election officials and audit professionals to discuss how election audits can be used to boost public trust in elections. EAC staff will also present information on the work the agency has done to gather information on audit principles. The full agenda will be posted in advance on the EAC website: https://www.eac.gov/events/2026/02/18/eac-election-audit-standards-hearing.

Background: The Help America Vote Act of 2002 (HAVA) charged the EAC to serve as a national clearinghouse and resource for the compilation of information and review of procedures with respect to the administration of federal elections. Election audits are a vital tool for analyzing and enhancing the quality of election administration throughout the United States. With numerous types of audits targeting different aspects of the election process and a variety of methodologies employed across the country, each state is responsible for establishing its own audit policies and procedures. This meeting will provide information on election audit principles and best practices to help inform election officials, stakeholders, the general public, and members of the media.

Status: This meeting will be open to the public.

Seton Parsons,
Associate Counsel, U.S. Election Assistance Commission.

[FR Doc. 2026-01967 Filed 1-29-26; 11:15 am]

BILLING CODE 4810-71-P